DEPARTMENT OF THE INTERIOR

Bureau of Land Management

[LLCAD01000 L12200000.AL 0000 Fund: 14XL1109AF]

Meeting of the Desert Renewable Energy Conservation Plan Subcommittee of the California Desert District Advisory Council

SUMMARY: Notice is hereby given, in accordance with Public Laws 92-463 and 94-579, that the Desert Renewable Energy Conservation Plan (DRECP) Subcommittee of the California Desert District Advisory Council (DAC) to the Bureau of Land Management (BLM), U.S. Department of the Interior, will meet on Tuesday, July 1, 2014 from 4:00 p.m. to 6:00 p.m. at the Bureau of Land Management, California Desert District Office, 22835 Calle San Juan de Los Lagos, Moreno Valley CA, 92553. Final agenda will be posted on the subcommittee Web page at http://www.blm.gov/ca/st/en/info/rac/dac/DesertRenewableEnergyConservationPlanSubcommittee.html when finalized.

SUPPLEMENTARY INFORMATION: The DRECP, a major component of California's renewable energy planning efforts, is intended to help provide effective protection and conservation of desert ecosystems while allowing for the appropriate development of renewable energy projects.

The DAC DRECP subcommittee was formed in order to develop comments on the overall plan ahead of actual availability of the DRECP Draft EIR/EIS.

Subcommittees are considered an internal working group of the council and comprised of council members only.

All DAC subcommittee meetings are open to the public. Time for public comment may be made available by the subcommittee chairman during the presentation of various agenda items.

Written comments may be filed in advance of the meeting for the California Desert District Advisory Council, c/o Bureau of Land Management, External Affairs, 22835 Calle San Juan de Los Lagos, Moreno Valley, CA 92553. Written comments also are accepted at the time of the meeting.

FOR FURTHER INFORMATION CONTACT: Stephen Razo, BLM California Desert District External Affairs, (951) 697-5217.

Dated: June 8, 2014.
Timothy J. Wakefield,
Associate California Desert District Manager.

[FR Doc. 2014-14958 Filed 6-25-14; 8:45 am]

BILLING CODE P